DEPARTMENT OF LABOR

Employment and Training Administration

[TA-W-72,401]

Jastev Casework Company, Columbia, TN; Notice of Termination of Investigation

Pursuant to Section 221 of the Trade Act of 1974, as amended, an investigation was initiated in response to a petition filed on September 24, 2009, by a company official on behalf of workers of Jastev Casework Company, Columbia, Tennessee.

The petitioner has requested that the petition be withdrawn. Accordingly, the investigation has been terminated.

Signed at Washington, DC, this 9th day of March, 2010

Del Min Amy Chen,
Certifying Officer, Division of Trade Adjustment Assistance.

[FR Doc. 2010-6924 Filed 3-29-10; 8:45 am]

BILLING CODE 4510-FN-P